DEPARTMENT OF TRANSPORTATION

Federal Highway Administration

[Docket No. FHWA-2025-0004]

Notice of Intent To Prepare an Environmental Impact Statement for a Proposed Highway Project; Pinal County, Arizona

AGENCY: Federal Highway Administration (FHWA), Department of Transportation (USDOT).

ACTION: Notice of Intent (NOI) to prepare an Environmental Impact Statement (EIS).

SUMMARY: The FHWA, on behalf of the Arizona Department of Transportation (ADOT) is issuing this Notice of Intent (NOI) to solicit comment and advise the public, agencies, Tribes, and stakeholders that an Environmental Impact Statement (EIS) will be prepared for the North-South Corridor, Segment 1, a new highway between U.S. Highway 60 (US 60) and Arizona Farms Road in Pinal County, Arizona. The Tier 1 Final EIS and Record of Decision were completed in August 2021 and addressed the need for additional north-to-south transportation capacity and connectivity in Pinal County. This Tier 2 EIS will build upon the Tier 1 EIS process. A Tier 2 EIS has also been initiated for Segment 2 and a NOI is expected within the next 12-months.

DATES: Comments on the NOI or the NOI Supplementary Information Document must be received on or before June 10, 2025.

ADDRESSES: This NOI and the NOI Supplementary Information Document are available in the docket referenced above at www.regulations.gov (https://regulations.gov) and on the project website located at www.northsouth-segment1.com. The NOI Supplementary Information Document will also be mailed upon request. All interested parties are invited to submit comments or requests for mailed documents by any of the following methods:

• Website: For access to the documents, go to the project website located at www.northsouth-segment1.com. Follow the online instructions for submitting comments.

• Phone: (602) 474-3990.

• Mailing address or hand delivery or courier: ADOT NSCS Segment 1 c/o HDR, Inc. 20 East Thomas Road, Suite 2500, Phoenix, AZ 85012.

• Project email address: info@northsouth-segment1.com.

All submissions should include the agency, public, Tribe, or stakeholder name; the docket number that appears in the heading of this notice; and the project identification number. All comments received will be posted without change to www.regulations.gov (http://regulations.gov) or www.northsouth-segment1.com, including any personal information provided.

FOR FURTHER INFORMATION CONTACT: Mr. Steven Olmsted, Environmental Planning Program Delivery Manager, Arizona Department of Transportation, 205 South 17th Avenue, MD EM02, Phoenix, Arizona 85007, telephone: (480) 202-6050.

Email: solmsted@azdot.gov. ADOT normal business hours are 8:00 a.m. to 4:30 p.m. (Mountain Standard Time).

You may also contact: Mr. Paul O'Brien, Environmental Planning Administrator, Arizona Department of Transportation, 205 S 17th Avenue, MD EM02, Phoenix, Arizona 85007; telephone: (480) 356-2893.

Email: POBrien@azdot.gov.

SUPPLEMENTARY INFORMATION: The environmental review, consultation, and other actions required by applicable Federal environmental laws for this project are being, or have been, carried out under ADOT's assumption of FHWA's National Environmental Policy Act responsibilities through a Memorandum of Understanding dated June 25, 2024, and executed by the FHWA and ADOT.

Persons and agencies who may be interested in or affected by the proposed project are encouraged to comment on the information in this NOI and the NOI Supplementary Information Document. All comments received in response to this NOI document will be considered and any information presented herein.

The EIS will be prepared in accordance with the requirements of the National Environmental Policy Act of 1969, as amended (42 U.S.C. 4321, et seq.); recent Council on Environmental Quality guidance; and other applicable Federal, State, and local laws and regulations.

The purpose and need of the North-South Corridor, as established during the Tier 1, is to enhance the area's transportation network to accommodate existing and future populations, improve access to future activity centers, improve regional mobility, provide an alternate to avoid traffic congestion on Interstate 10, improve north-to-south connectivity, and integrate the region's transportation network.

The proposed project would construct a new north-to-south freeway between US 60 and Arizona Farms Road. The EIS will evaluate a range of build alternatives and a No Build Alternative. ADOT has developed three preliminary build alternatives labeled Alternative 1, Alternative 2, and Alternative 3. Each preliminary build alternative is located within the 1,500-foot corridor established by the Tier 1 Selected Corridor Alternative and is approximately 20-miles long. All three preliminary build alternatives would connect with US 60 at the northern project limits and Arizona Farms Road at the southern project limits. In some areas where there are few environmental and technical constraints present, all three preliminary build alternatives use a common single alignment alternative. In other areas where environmental and technical constraints are present, the build alternatives are different and are described based on their horizontal location within the 1,500-foot corridor. Alternative 1 is within the western portions of the 1,500-foot corridor in constrained areas of the corridor, Alternative 2 is within the center zone, and Alternative 3 is within the eastern zone.

This study will also establish traffic interchange locations. The preliminary range of potential interchange locations include Houston Road, Elliott Road, Ray Road, State Route 24, Germann Road, Ocotillo Road, Combs Road/Riggs Road, Skyline Drive, Bella Vista Road, Judd Road, and Arizona Farms Road.

The No Build Alternative involves taking no action except routine maintenance and other presently planned and programmed projects.

Additional information on the purpose and need and alternatives, as well as maps and figures illustrating the project location, and coordination and public involvement efforts are provided in the NOI Supplementary Project Information available for review on the project website noted in the ADDRESSES section.

The Tier 2 EIS will evaluate the potential social, economic, and environmental impacts resulting from the implementation of the build alternatives and the No Build Alternative. The following resources are anticipated to be evaluated in detail during the environmental review process: Cultural and Historic Resources; Biological Resources and Wildlife Connectivity; Socioeconomics, Land Use, and Planned Development; Waters of the United States; Section 4(f); and Noise. Additionally, the EIS will also identify impacts to farmlands; recreation; topography, geology, and soils; hydrology, floodplains, and water resources; energy; Section 6(f) resources; air quality; transportation; hazardous waste sites; and visual resources.

Anticipated permits and authorizations that could be required prior to the commencement of construction include:

• U.S. Army Corps of Engineers (USACE) approvals under Section 404 of the Clean Water Act and Section 401 water quality certification;

• Arizona State Land Department (ASLD);

• Bureau of Reclamation (Reclamation) authorization of the Central Arizona Project Canal crossing;

• State Historic Preservation Officer (SHPO) consultation under Section 106 of the National Historic Preservation Act;

• U.S. Fish and Wildlife Service (USFWS) approvals under the Endangered Species Act, the Bald and Golden Eagle Protection Act, and Migratory Bird Treaty Act; and

• Natural Resources Conservation Service approval under the Farmland Protection Policy Act.

Public engagement activities for the Tier 2 EIS involved public information meetings held in September 2023. Agency coordination meetings include an Agency Early Scoping Meeting held in August 2023, Cooperating Agency meetings held between April 2024 and March 2025, and one-on-one coordination meetings on specific topics.

Cooperating agencies include USACE, Reclamation, USFWS, U.S. Environmental Protection Agency, Arizona Game and Fish Department, ASLD, and Pinal County. Participating agencies include the Bureau of Land Management, Federal Railroad Administration, Arizona SHPO, Arizona State Parks, Maricopa Association of Governments, Maricopa County Department of Transportation, the City of Apache Junction, the Gila River Indian Community, and the San Carlos Apache Tribe. A Project Coordination Plan is attached to the NOI Supplemental Information Document.

All public comments received in response to this notice will be considered and potential revisions will be made to the information presented herein as appropriate. Comments must be received by June 10, 2025. Comments or questions concerning this proposed action, including the comments relative the preliminary EIS alternatives, information, and analyses, should be directed to ADOT at the addresses provided in the ADDRESSES section of this notice.

(Catalog of Federal Domestic Assistance Program Number 20.205, Highway Planning and Construction. The regulations implementing Executive Order 12372 regarding intergovernmental consultation on Federal programs and activities apply to this program.)

Anthony N. Sarhan,
Deputy Division Administrator, Phoenix, Arizona.

[FR Doc. 2025-08057 Filed 5-7-25; 8:45 am]

BILLING CODE 4910-22-P